DEPARTMENT OF COMMERCE

National Oceanic and Atmospheric Administration

Office of Oceanic and Atmospheric Research (OAR); NOAA Research Review Team Report

AGENCY: Office of Oceanic and Atmospheric Research (OAR), National Oceanic and Atmospheric Administration (NOAA), Department of Commerce.

ACTION: Notice and request for public comment.

SUMMARY: The Office of Oceanic and Atmospheric Research publishes this notice to announce the availability of the NOAA Research Review Team Draft of the Final Report for public comment. The NOAA Research Report is compiled pursuant to requests from the House and Senate Appropriations Subcommittees in their 2003 reports. The report accompanying the House Commerce, Justice State (CJS) Appropriations Subcommittee requests that NOAA review research in NOAA, and specifically OAR, for the purpose of improving the effectiveness and efficiency of its research enterprise. The report addresses how NOAA should improve the management of research to ensure its maximum efficiency and effectiveness.

DATES: Comments on this draft document must be submitted by June 23, 2004.

ADDRESSES: The NOAA Research Review Team Report will be available on the SAB website at http://www.sab.noaa.gov/reports/RRT_final-draft_052504.pdf on May 25, 2004.

The public is encouraged to submit comments electronically to research.review@noaa.gov. For commenters who do not have access to a computer, comments may be submitted in writing to: NOAA Research, Science Advisory Board, (SAB) c/o Ms. M.Whitcomb, Silver Spring Metro Center Bldg 3 Room 11558, 1315 East-West Highway, Silver Spring, Maryland 20910.

FOR FURTHER INFORMATION CONTACT: Ms. M. Whitcomb, Silver Spring Metro Center Bldg 3 Room 11558, 1315 East-West Highway, Silver Spring, Maryland 20910 (phone 301-713-2454 x 173), during normal business hours of 8 a.m. to 5 p.m. Eastern Time, Monday through Friday, or visit the SAB web site at: http://www.sab.noaa.gov/reports/RRT_final-draft_052504.pdf.

SUPPLEMENTARY INFORMATION: The Office of Oceanic and Atmospheric Research (OAR) publishes this notice to announce the availability of the NOAA Research Report for public comment. NOAA Research will post the NOAA Research Draft of the Final Report for public comment on May 25, 2004. NOAA Research is seeking public comment from all interested parties. This final report is being issued for comment only and is not intended for interim use. Suggested changes will be incorporated, where appropriate, in the report being submitted to the Congress.

The NOAA Research Report is compiled pursuant to requests from the House and Senate Appropriations Subcommittees in their 2003 reports. The report accompanying the House Commerce, Justice State (CJS) Appropriations Subcommittee requests that NOAA review research in NOAA, and specifically OAR, for the purpose of improving the effectiveness and efficiency of its research enterprise. The report addresses how NOAA should improve the management of research to ensure its maximum efficiency and effectiveness.

In response to the Congressional report language, NOAA appointed an “Ad Hoc Review Team,” (here called the NOAA Research Review Team), under the auspices of the SAB consisting of five members to compile the requested information. The Review team will be disbanded once the review is completed and a final report issued. This panel is tasked with: (1) Conducting a review of OAR for the purpose of improving the effectiveness and efficiency of its research enterprise; (2) Determining if OAR is adequately linked to NOAA's service organizations, [i.e., National Weather Service (NWS), National Environmental Satellite Data, and Information Service (NESDIS), National Marine Fisheries Service (NMFS), and the National Ocean Service (NOS)]; (3) Assessing whether the research programs are relevant to the needs of these organizations. The team's recommendations will assist NOAA in responding to the language in the 2004 House and Senate CJS appropriation reports.

The NOAA Research Review Team is presenting its findings to the SAB in two (2) reports. The first report was posted for public comments in December 2003, and was submitted to NOAA on January 29, 2004. The final report, which incorporates the first draft report, will be posted on the SAB web site at: http://www.sab.noaa.gov/reports/RRT_final-draft_052504.pdf on May 25, 2004 for public comment. Public comments may be submitted from May 25, 2004 to 30 days after May 25, or June 23, 2004.

NOAA welcomes all comments on the content of the report. We also request comments on any inconsistencies perceived within the report, and possible omissions of important topics or issues. For any shortcoming noted within the draft report, please propose specific remedies.

Please follow these instructions for preparing and submitting a review. Using the format guidance described below will facilitate the processing of reviewer comments and assure that all comments are appropriately considered. Please provide background information about yourself on the first page of your comments: your name(s), organization(s), area(s) of expertise, mailing address(es), telephone and fax numbers, email address(es). Overview comments on the section should follow your background information and should be numbered. Comments that are specific to particular pages, paragraphs or lines of the section should follow any overview comments and should identify the page numbers to which they apply. Please number all pages, (on the upper right hand of each page,) and print identifying information at the top of each page.

Dated: May 10, 2004.
Louisa Koch,
Deputy Assistant Administrator, Office of Oceanic and Atmospheric Research, National Oceanic and Atmospheric Administration.

[FR Doc. 04-10935 Filed 5-13-04; 8:45 am]

BILLING CODE 3510-KD-P